FEDERAL MARITIME COMMISSION

[FMC-2026-0100]

Investigation Into Ocean Common Carriers' Practices and Restrictions on Chassis Usage

AGENCY: Federal Maritime Commission.

ACTION: Request for public comments.

SUMMARY: The Federal Maritime Commission is investigating reports that ocean common carriers may be in violation of the Shipping Act by unjustly and unreasonably restricting truckers and shippers from negotiating and dealing with chassis providers through service contract terms or other means, and seeks information from shippers, motor carriers, and other transportation service providers as well as the public about whether such practices are occurring and if so, how they are affecting the ocean supply chain.

DATES: Submit comments on or before March 27, 2026.

ADDRESSES: You may submit comments, identified by FMC-2026-0100 by the following method:

Federal eRulemaking Portal: Your comments must be written and in English. You may submit your comments electronically through the Federal Rulemaking Portal at www.regulations.gov. To submit comments on that site, search for Docket No. FMC-2026-0100 and follow the instructions provided. To request that comments or portions thereof remain confidential, submit a request addressed to David Eng, Secretary at Secretary@fmc.gov.

FOR FURTHER INFORMATION CONTACT: For questions regarding submitting comments or the treatment of any confidential information, contact David Eng, Secretary; Phone: (202) 523-5725; Email: Secretary@fmc.gov.

SUPPLEMENTARY INFORMATION:

I. Background

The Commission has received information that ocean common carriers are relying on service contract terms or other means to mandate that motor carriers (truckers) and shippers use the ocean common carriers' designated chassis provider. The information received appears to indicate that these practices are being applied to cargo transported under merchant haulage arrangements under which the trucker or shipper is responsible for arranging and paying for overland transportation between a port and inland facilities. If these reports are accurate, ocean common carriers employing such practices (through service contract terms or other means) may be violating the Shipping Act. Practices and rules that ocean common carriers apply in handling and transporting cargo must be just and reasonable and cargo transported under service contracts must comply with the applicable statutory and regulatory requirements. The Commission is investigating possible non-compliance under its authority to enforce the Shipping Act and in carrying out its goals of ensuring “an efficient, competitive, and economical transportation system in the ocean commerce of the United States.” 46 U.S.C. 40101(2).

The Shipping Act requires all ocean common carriers to establish and follow rules and practices for handling and transporting cargo that are just and reasonable. 46 U.S.C. 41102(c). Rules and practices that restrict truckers and shippers to the ocean common carriers' designated chassis provider have been found to be unreasonable under section 41102(c). Intermodal Motor Carriers Conference v. OCEMA, FMC Docket No. 20-14, 2024 WL 641501 (FMC Feb. 13, 2024). In Intermodal, the Commission found that rules adopted by an association of ocean common carriers and used by individual ocean common carriers to designate exclusive chassis providers for merchant haulage violated section 41102(c) and ordered the Respondents named in that action to immediately cease adopting or enforcing those rules at facilities servicing four regions of the United States: Chicago, Savannah, Memphis, and the Port of Los Angeles/Long Beach. When the Commission received reports that ocean common carriers named as respondents in Intermodal were not complying with the cease and desist order, it initiated an investigation which remains open. In the Matter of Inquiry Regarding Compliance with the Cease and Desist Order in Docket No. 20-14, Special Investigation No. 24-02.

Restrictions imposed through carrier association rules, service contracts, or other means which directly or indirectly deprive truckers and shippers of the ability to negotiate and deal with chassis providers, particularly for merchant haulage, violate section 41102(c) if they are unjust or unreasonable. Depending on how they are imposed or implemented, such restrictions may also violate Shipping Act provisions and Commission regulations governing ocean common carriers' service contracts with shippers. These restrictions impede truckers' and shippers' ability to negotiate rates and chassis usage terms and engage the chassis provider offering the most favorable terms. For merchant haulage in particular, truckers and shippers should have the opportunity to negotiate chassis usage terms (e.g., rates or allotted free time) or desired specifications (e.g., supply of equipment with upgraded or particular safety features). That opportunity preserves their ability to operate efficiently and economically and rely on chassis usage arrangements tailored to their needs.

Restrictions that ocean common carriers impose through service contract terms must also comply with Shipping Act provisions governing those contracts. See 46 U.S.C. 40502. Any cargo that an ocean common carrier is not transporting under its published tariff must be transported under a service contract with the shipper. 46 U.S.C. 41104(a)(2). Service contacts must be in writing (other than a bill of lading or cargo receipt) and contain the essential terms listed in section 40502. See 46 U.S.C. 40102(21). They must also be filed with the Commission through the Service Contract Filing System (SERVCON). 46 U.S.C. 40502; 46 CFR part 530. Filed service contracts are confidential but ocean common carriers must publish and make available to the public in tariff format a “concise statement” of the essential terms. 46 U.S.C. 40502. Ocean common carriers must also comply with restrictions set forth in 46 U.S.C. 41104(a) that specifically apply to cargo transported or handled under service contracts.

II. Investigation Into Reports of Non-Compliance

The Commission is now looking into information that ocean common carriers may be violating Shipping Act prohibitions against unjust or unreasonable practices, or failing to comply with other Shipping Act requirements by imposing restrictions that directly or indirectly impede truckers' and shippers' ability to deal with chassis providers they select, particularly for merchant haulage. As an initial step in this investigation, the Commission seeks comments from shippers, transportation service providers, chassis equipment providers, other interested stakeholders, and the public about whether such practices and restrictions are currently occurring, how they are being implemented or imposed, and how they are affecting or restricting truckers' or shippers' ability to independently select, negotiate and deal with chassis providers. This investigation is being conducted pursuant to the Commission's authority under section 40101(2) to enforce the Shipping Act, regulate the practices, policies and actions of ocean common carriers and to ensure “an efficient, competitive, and economical transportation system in the ocean commerce of the United States,” and is being carried out under the Commission's procedures for nonadjudicatory investigations at 46 CFR part 502, subpart R.

The Commission is interested in any information relevant to restrictions of any kind imposed by ocean common carriers on chassis provider selection or negotiations for chassis usage. Information related to any of the following specific topics will be particularly useful to the investigation: (1) whether and the extent to which truckers can choose the chassis provider in the markets covered by the Intermodal cease and desist order (Los Angeles/Long Beach, Savannah, Memphis, and Chicago); (2) whether ocean common carriers have designated a single chassis provider which truckers must use in the Memphis and Chicago service regions; (3) information relating to the “merchant haulage” exception if that is a term used in service contracts with shippers or beneficial cargo owners (BCOs); (4) in a merchant haulage movements, information about provisions related to chassis control, chassis condition, and equipment returns; (5) information concerning whether there is an adequate supply of chassis available for merchant haulage; (6) whether ocean common carriers reimburse truckers for time and costs associated with chassis splits; (7) how situations where there is an inadequate supply of chassis for current needs are addressed; (8) means by which ocean common carriers notify railroads at wheeled or partially wheeled railyards about which containers/cargo are being transported under merchant haulage and which chassis to use for those containers; (9) means of communicating with chassis providers using the Los Angeles/Long Beach Pool of Pools to designate and distinguish between carrier haulage and merchant haulage containers/cargo and coordinate billing accordingly; (10) estimates of the number/percentage of trucker-owned chassis used in the Memphis, Savannah, Chicago and Los Angeles/Long Beach markets; and (11) more generally, any information concerning new or ongoing ocean common carrier practices of any kind that are used or applied to affect, restrict, or inhibit chassis provider selection or negotiations and how those practices affect the chassis provisioning market at ports or inland facilities anywhere in the United States. This information will allow the Commission to assess current conditions and determine whether Shipping Act violations may be occurring and what further action, if any, is warranted.

By the Commission.
David Eng,
Secretary.

[FR Doc. 2026-01466 Filed 1-23-26; 8:45 am]

BILLING CODE 6730-02-P